OFFICE OF THE UNITED STATES TRADE REPRESENTATIVE

Notice of the Change in Meeting Date of the Industry Functional Advisory Committee on Electronic Commerce (IFAC-4)

AGENCY: Office of the United States Trade Representative.

ACTION: Notice of Change in Meeting Date.

SUMMARY: A notice was published in the Federal Register dated January 14, 2000, Volume number 65, FR DOC. 98.00-984, page 2453-2454, announcing a meeting of the Industry Functional Advisory Committee on Electronic Commerce (IFAC-4) scheduled for February 3, 2000, from 9 a.m. to 3 p.m. The meeting was to be opened to the public from 9 a.m. to 12 noon and closed to the public from 12 noon to 3 p.m. However, due to scheduling conflicts the meeting has been rescheduled for February 4, 2000, from 8 a.m. to 5 p.m. The meeting will be opened to the public from 8 a.m. to 3 p.m. and closed to the public from 3 p.m. to 5 p.m.

FOR FURTHER INFORMATION CONTACT: Ladan Manteghi, Office of the United States Trade Representative, (202) 395-6120.

Pate Felts,
Assistant U.S. Trade Representative.

[FR Doc. 00-2059 Filed 1-31-00; 8:45 am]

BILLING CODE 3190-01-M